DEPARTMENT OF HEALTH AND HUMAN SERVICES

Centers for Disease Control and Prevention

[30Day-18-17AUQ]

Agency Forms Undergoing Paperwork Reduction Act Review

In accordance with the Paperwork Reduction Act of 1995, the Centers for Disease Control and Prevention (CDC) has submitted the information collection request titled Mobile Proximity Initial User Feedback to the Office of Management and Budget (OMB) for review and approval. CDC previously published a “Proposed Data Collection Submitted for Public Comment and Recommendations” notice on September 6, 2017 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Mobile Proximity Initial User Feedback—NEW—National Institute for Occupational Safety and Health (NIOSH), Centers for Disease Control and Prevention (CDC).

Background and Brief Description

The mission of the National Institute for Occupational Safety and Health (NIOSH) is to promote safety and health at work for all people through research and prevention. The study will be conducted by NIOSH under the Federal Mine Safety and Health Act of 1977, Public Law 91-173 as amended by Public Law 95-164. Title V, Section 501 (a) states NIOSH has the responsibility to conduct research “to improve working conditions and practices in coal or others mines, and to prevent accidents and occupational diseases originating in the coal or other mining industry (Federal Mine and Safety and Health Act, 1977, Title V, Sec. 501).”

Striking, pinning and crushing injuries are serious concerns in underground coal mining, especially around mobile equipment. Between 2010 and 2014 powered haulage accounted for 24 of the 110 underground coal fatalities. During that same time period, the Mine Safety and Health Administration (MSHA) determined that up to nine of these fatalities were striking, pinning, or crushing accidents, which may have been prevented by proximity detection systems on coal haulage machines or scoops. Following the final rule requiring proximity detection systems on continuous mining machines, on September 2, 2015, MSHA published a proposed rule requiring proximity systems on mobile machines in underground coal mines. Though it is still under development, MSHA reported that by June of 2015, 155 of approximately 2,116 coal haulage machines and scoops had been equipped with proximity detection systems. However, in recent discussions with NIOSH personnel, some mine operators have disclosed suspending the use of proximity detection systems on mobile equipment due to challenges integrating the systems into daily operations. This has further prompted concerns about how proximity detection systems are being utilized.

The goal of this study is to reduce the risk of traumatic injuries and fatalities among mine workers through assessing the current state of proximity systems for underground mobile equipment. NIOSH is seeking a one-year OMB approval in order to collect information to address two key questions: (1) In which situations do proximity detection systems on mobile haulage hinder normal operation? (2) In which situations do proximity detection systems on mobile haulage endanger miners? Data will be used to inform the development of technologies, engineering controls, administrative controls, best practices, and training approaches that eliminate striking fatalities and injuries caused by mobile mining equipment.

The study population includes mine workers in various maintenance and production roles that work in underground coal mines in the United States. Total annual time burden for this study is 45 hours, including recruitment of mines and 250 semi-formal interviews. Since workers will continue to perform their assigned duties during the optional group observations, a burden estimate was not calculated for this activity.

Estimated Annualized Burden Hours
Type of respondents | Form name | Number of respondents | Number of responses per respondent | Average burden per response (in hours)
Mine Operators | Mine Recruitment Scripts | 12 | 1 | 15/60
Crew members | Interview Protocol | 250 | 1 | 10/60

Leroy A. Richardson,
Chief, Information Collection Review Office, Office of Scientific Integrity, Office of the Associate Director for Science, Office of the Director, Centers for Disease Control and Prevention.

[FR Doc. 2018-00140 Filed 1-5-18; 8:45 am]

BILLING CODE P